DEPARTMENT OF TRANSPORTATION

Federal Aviation Administration

Fourth Meeting: RTCA Special Committee 230, Airborne Weather Detection Systems Committee

AGENCY: Federal Aviation Administration (FAA), U.S. Department of Transportation (DOT).

ACTION: Fourth Meeting Airborne Weather Detection Systems Committee.

SUMMARY: The FAA is issuing this notice to advise the public of the fourth meeting of the Airborne Weather Detection Systems Committee.

DATES: The meeting will be held June 16-18, 2015 (from 9:00 a.m.-5:00 p.m. on June 16-17 and 9:00 a.m.-3:00 p.m. on June 18).

ADDRESSES: The meeting will be held at Boeing Company, 635 Park Ave N Renton, WA 98057 Building #10-18.

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of Special Committee 224. The agenda will include the following:

June 16

• Welcome/Introductions/Administrative Remarks

• Agenda Overview

• Meeting #3 Minutes approval

• Discussion of activities with EUROCAE WG-95

• Review of final findings from DO-220 draft

June 17

• Review of issues being addressed in DO-213

• Review of findings from DO-213 draft

June 18

• Review of findings from DO-213 draft

• Action Item Review

• Other Actions

• FRAC Progress

• Date and Place of Next Meetings

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 28, 2015.
Mohannad Dawoud,
Management Analyst, NextGen, Program Oversight and Administration, Federal Aviation Administration.

[FR Doc. 2015-13389 Filed 6-1-15; 8:45 am]

BILLING CODE 4910-13-P